DEPARTMENT OF AGRICULTURE

Grain Inspection, Packers and Stockyards Administration

Opportunity for Designation in Belmond, IA; Minnesota; New Jersey; and New York Areas; Request for Comments on the Official Agency Servicing These Areas

AGENCY: Grain Inspection, Packers and Stockyards Administration, USDA.

ACTION: Notice.

SUMMARY: The designation of the official agency listed below will end on September 30, 2016. We are asking persons or governmental agencies interested in providing official services in the areas presently served by this agency to submit an application for designation. In addition, we are asking for comments on the quality of services provided by the following designated agency: D.R. Schaal Agency, Inc. (Schaal).

DATES: Applications and comments must be received by September 29, 2016.

ADDRESSES: Submit applications and comments concerning this Notice using any of the following methods:

• Applying for Designation on the Internet: Use FGISonline (https://fgis.gipsa.usda.gov/default_home_FGIS.aspx) and then click on the Delegations/Designations and Export Registrations (DDR) link. You will need to obtain an FGISonline customer number and USDA eAuthentication username and password prior to applying.

• Submit Comments Using the Internet: Go to Regulations.gov (http://www.regulations.gov). Instructions for submitting and reading comments are detailed on the site.

• Mail, Courier or Hand Delivery: Sharon Lathrop, Compliance Officer, USDA, GIPSA, FGIS, QACD, 10383 North Ambassador Drive, Kansas City, MO 64153.

• Fax: Sharon Lathrop, 816-872-1257.

• Email: FGIS.QACD@usda.gov.

Read Applications and Comments: All applications and comments will be available for public inspection at the office above during regular business hours (7 CFR 1.27(c)).

FOR FURTHER INFORMATION CONTACT: Sharon Lathrop, 816-891-0415 or FGIS.QACD@usda.gov

SUPPLEMENTARY INFORMATION: Section 79(f) of the United States Grain Standards Act (USGSA) authorizes the Secretary to designate a qualified applicant to provide official services in a specified area after determining that the applicant is better able than any other applicant to provide such official services (7 U.S.C. 79(f)). Under section 79(g) of the USGSA, designations of official agencies are effective for no longer than five years, unless terminated by the Secretary, and may be renewed according to the criteria and procedures prescribed in section 79(f) of the USGSA.

Areas Open for Designation

Schaal

Pursuant to Section 79(f)(2) of the United States Grain Standards Act, the following geographic area, in the States of Iowa, Minnesota, New Jersey, and New York, is assigned to this official agency.

In Iowa

Bounded on the North by the northern Kossuth County line from U.S. Route 169; the northern Winnebago, Worth, and Mitchell County lines;

Bounded on the East by the eastern Mitchell County line; the eastern Floyd County line south to B60; B60 west to T64; T64 south to State Route 188; State Route 188 south to C33;

Bounded on the South by C33 west to T47; T47 north to C23; C23 west to S56; S56 south to C25; C25 west to U.S. Route 65; U.S. Route 65 south to State Route 3; State Route 3 west to S41; S41 south to C55; C55 west to Interstate 35; Interstate 35 southwest to the southern Wright County line; the southern Wright County line west to U.S. Route 69; U.S. Route 69 to C54; C54 west to State Route 17; and

Bounded on the West by State Route 17 north to the southern Kossuth County line; the Kossuth County line west to U.S. Route 169; U.S. Route 169 north to the northern Kossuth County line.

In Minnesota

Faribault, Freeborn, and Mower Counties.

In New Jersey

The entire State, except those export port locations within the State, which are serviced by GIPSA.

In New York

The entire State, except those export port locations within the State, which are serviced by GIPSA.

The following grain elevators are not part of this geographic area assignment and are assigned to: Sioux City Inspection and Weighing Service Company: Agvantage F.S., Chapin, Franklin County, Iowa; Five Star Coop, Rockwell, Cerro Gordo County, Iowa; Maxyield Coop, Algona, Kossuth County, Iowa; Stateline Coop, Burt, Kossuth County, Iowa; Gold-Eagle, Goldfield, Wright County, Iowa; and North Central Coop, Holmes, Wright County, Iowa.

Opportunity for Designation

Interested persons or governmental agencies may apply for designation to provide official services in the geographic areas specified above under the provisions of section 79(f) of the USGSA and 7 CFR 800.196. Designation in the specified geographic areas in the States of Iowa, Minnesota, New Jersey, and New York is for the period beginning October 1, 2016, to September 30, 2021. To apply for designation or to request more information, contact Sharon Lathrop at the address listed above.

Request for Comments

We are publishing this Notice to provide interested persons the opportunity to comment on the quality of services provided by the Schaal official agency. In the designation process, we are particularly interested in receiving comments citing reasons and pertinent data supporting or objecting to the designation of the applicant. Submit all comments to Sharon Lathrop at the above address or at http://www.regulations.gov.

We consider applications, comments, and other available information when determining which applicants will be designated.

Authority: 7 U.S.C. 71-87k.

Larry Mitchell,
Administrator, Grain Inspection, Packers and Stockyards Administration.

[FR Doc. 2016-20748 Filed 8-29-16; 8:45 am]

BILLING CODE 3410-KD-P